NATIONAL TRANSPORTATION SAFETY BOARD

Sunshine Act Meeting; Agenda

Time and Date: 9:30 a.m., Tuesday, October 28, 2008.

Place: NTSB Conference Center, 429 L'Enfant Plaza, SW., Washington, DC 20594.

Status: The one item is open to the public.

Matter to be Considered:

5300E Most Wanted Transportation Safety Improvements—October 2008 Progress Report and Update on Federal Issues.

News Media Contact: Telephone: (202) 314-6100.

Individuals requesting specific accommodations should contact Rochelle Hall at (202) 314-6305 by Friday, October 24, 2008.

The public may view the meeting via a live or archived Web cast by accessing a link under “News & Events” on the NTSB home page at http://www.ntsb.gov.

FOR MORE INFORMATION CONTACT: Vicky D'Onofrio, (202) 314-6410.

Dated: October 17, 2008.
Vicky D'Onofrio,
Federal Register Liaison Officer.

[FR Doc. E8-25170 Filed 10-17-08; 4:15 pm]

BILLING CODE 7533-01-P